DEPARTMENT OF TRANSPORTATION

Federal Aviation Administration

14 CFR Part 39

[Docket No. 2002-NM-280-AD; Amendment 39-13742; AD 2004-15-08]

RIN 2120-AA64

Airworthiness Directives; Fokker Model F.28 Mark 0070 and 0100 Series Airplanes

AGENCY: Federal Aviation Administration, DOT.

ACTION: Final rule.

SUMMARY: This amendment supersedes an existing airworthiness directive (AD), applicable to all Fokker Model F.28 Mark 0070 and 0100 series airplanes, that currently requires revising the Airworthiness Limitations section of the Instructions for Continued Airworthiness to incorporate life limits for certain items and inspections to detect fatigue cracking in certain structures. This amendment requires revising the Airworthiness Limitations section of the Instructions for Continued Airworthiness to incorporate updated Airworthiness Limitation Items, Safe Life Items, and Certification Maintenance Requirements. The actions specified by this AD are intended to ensure the structural integrity of the airplane by ensuring that fatigue cracking of certain structural elements is detected and corrected in a timely manner. This action is intended to address the identified unsafe condition.

DATES: Effective August 31, 2004.

The incorporation by reference of certain publications, as listed in the regulations, is approved by the Director of the Federal Register as of August 31, 2004.

The incorporation by reference of certain other publications, as listed in the regulations, was approved previously by the Director of the Federal Register as of December 4, 2001 (66 FR 54656, October 30, 2001).

ADDRESSES: The service information referenced in this AD may be obtained from Fokker Services B.V., P.O. Box 231, 2150 AE Nieuw-Vennep, the Netherlands. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION: A proposal to amend part 39 of the Federal Aviation Regulations (14 CFR part 39) by superseding AD 2001-21-04, amendment 39-12475 (66 FR 54656, October 30, 2001), which is applicable to all Fokker Model F.28 Mark 0070 and 0100 series airplanes, was published in the Federal Register on May 12, 2004 (69 FR 26329). The action proposed to require revising the Airworthiness Limitations section (ALS) of the Instructions for Continued Airworthiness to incorporate updated Airworthiness Limitation Items, Safe Life Items, and Certification Maintenance Requirements.

Comments

Interested persons have been afforded an opportunity to participate in the making of this amendment. No comments were submitted in response to the proposal or the FAA's determination of the cost to the public.

Conclusion

The FAA has determined that air safety and the public interest require the adoption of the rule as proposed.

Cost Impact

There are approximately 74 airplanes of U.S. registry that will be affected by this AD.

The ALS revision that is currently required by AD 2001-21-04 takes approximately 1 work hour per airplane to accomplish, at an average labor rate of $65 per work hour. Based on these figures, the cost impact of this currently required action on U.S. operators is estimated to be $4,810, or $65 per airplane.

The new actions that are required in this AD action will take approximately 1 work hour per airplane to accomplish, at an average labor rate of $65 per work hour. Based on these figures, the cost impact of the new requirements of this AD on U.S. operators is estimated to be $4,810, or $65 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12475 (66 FR 54656, October 30, 2001), and by adding a new airworthiness directive (AD), amendment 39-13742, to read as follows:

2004-15-08 Fokker Services B.V.: Amendment 39-13742. Docket 2002-NM-280-AD. Supersedes AD 2001-21-04, Amendment 39-12475.

Applicability: All Model F.28 Mark 0070 and 0100 series airplanes, certificated in any category.

Compliance: Required as indicated, unless accomplished previously.

To ensure that fatigue cracking of certain structural elements is detected and corrected, and to ensure the structural integrity of affected airplanes, accomplish the following:

Requirements of AD 2001-21-04

Airworthiness Limitations Revision

(a) Within 30 days after December 4, 2001 (the effective date of AD 2001-21-04, amendment 39-12475), revise the Airworthiness Limitations section (ALS) of the Instructions for Continued Airworthiness by incorporating Report SE-623, “Fokker 70/100 Airworthiness Limitations Items and Safe Life Items,” of Appendix 1 of Fokker 70/100 Maintenance Review Board (MRB) document, dated June 1, 2000.

(b) Except as provided by paragraph (c) this AD: After the actions specified in paragraph (a) of this AD have been accomplished, no alternative inspections or inspection intervals may be approved for the structural elements specified in the documents listed in paragraph (a) of this AD.

New Requirements of This AD

New Airworthiness Limitations Revision

(c) Within 6 months after the effective date of this AD, revise the Airworthiness Limitations section (ALS) of the Instructions for Continued Airworthiness by incorporating Fokker Services B.V. Report SE-623, “Fokker 70/100 Airworthiness Limitations Items and Safe Life Items,” Issue 2, dated September 1, 2001; and Fokker Services B.V. Report SE-473, “Fokker 70/100 Certification Maintenance Requirements,” Issue 5, dated July 16, 2001; into Section 6 of the Fokker 70/100 MRB document. (These reports are already incorporated into Fokker 70/100 MRB document, Revision 10, dated October 1, 2001.) Once the actions required by this paragraph have been accomplished, the original issue of Fokker Services B.V. Report SE-623, “Fokker 70/100 Airworthiness Limitations Items and Safe Life Items,” dated June 1, 2000, may be removed from the ALS of the Instructions for Continued Airworthiness.

(d) If the requirements of paragraph (c) of this AD are accomplished within the compliance time specified in paragraph (a) of this AD, it is not necessary to accomplish the requirements of paragraph (a) of this AD.

(e) After the actions specified in paragraph (c) of this AD have been accomplished, no alternative inspections or inspection intervals may be approved for the structural elements specified in the documents listed in paragraph (c) of this AD.

Alternative Methods of Compliance

(f) In accordance with 14 CFR 39.19, the Manager, International Branch, ANM-116, Transport Airplane Directorate, FAA, is authorized to approve alternative methods of compliance for this AD.

Incorporation by Reference

(g) The actions shall be done in accordance with Fokker Services B.V. Report SE-623, “Fokker 70/100 Airworthiness Limitation Items and Safe Life Items,” dated June 1, 2000; Fokker Services B.V. Report SE-623, “Fokker 70/100 Airworthiness Limitation Items and Safe Life Items,” Issue 2, dated September 1, 2001; and Fokker Services B.V. Report SE-473, “Fokker 70/100 Certification Maintenance Requirements,” Issue 5, dated July 16, 2001.

(1) The incorporation by reference of Fokker Services B.V. Report SE-623, “Fokker 70/100 Airworthiness Limitation Items and Safe Life Items,” Issue 2, dated September 1, 2001; and Fokker Services B.V. Report SE-473, “Fokker 70/100 Certification Maintenance Requirements,” Issue 5, dated July 16, 2001; is approved by the Director of the Federal Register in accordance with 5 U.S.C. 552(a) and 1 CFR part 51.

(2) The incorporation by reference of Fokker Services B.V. Report SE-623, “Fokker 70/100 Airworthiness Limitation Items and Safe Life Items,” dated June 1, 2000, was approved by the Director of the Federal Register as of December 4, 2001 (66 FR 54656, October 30, 2001).

(3) Copies may be obtained from Fokker Services B.V., P.O. Box 231, 2150 AE Nieuw-Vennep, the Netherlands. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Note 1: The subject of this AD is addressed in Dutch airworthiness directive 2002-062, dated May 31, 2002.

Effective Date

(h) This amendment becomes effective on August 31, 2004.

Issued in Renton, Washington, on July 9, 2004.
Kevin M. Mullin,
Acting Manager, Transport Airplane Directorate, Aircraft Certification Service.

[FR Doc. 04-16677 Filed 7-26-04; 8:45 am]

BILLING CODE 4910-13-P